DEPARTMENT OF ENERGY

Federal Energy Regulatory Commission

[Project No. 2194-020]

FPL Energy Maine Hydro LLC; Notice of Application Ready for Environmental Analysis and Soliciting Comments, Recommendations, Terms and Conditions, and Prescriptions

February 1, 2005.

Take notice that the following hydroelectric application has been filed with the Commission and is available for public inspection.

a. Type of Application: New major license.

b. Project No.: P-2194-020.

c. Date Filed: June 30, 2003.

d. Applicant: FPL Energy Maine Hydro LLC.

e. Name of Project: Bar Mills Hydroelectric Project.

f. Location: Located on the Saco River in the towns of Buxton and Hollis, York County, Maine. This project does not use federal lands.

g. Filed Pursuant to: Federal Power Act 16 U.S.C. 791 (a)-825(r).

h. Applicant Contact: Frank Dunlap, FPL Energy Maine Hydro LLC, 160 Capitol Street, Augusta, ME 04330, (207) 623-8417.

i. FERC Contact: Jack Hannula, (202) 502-8917, john.hannula@ferc.gov.

j. Deadline for Filing Comments, Recommendations, Terms and Conditions, and Prescriptions: 60 days from the issuance date of this notice; reply comments are due 105 days from issuance date of this notice.

All documents (original and eight copies) should be filed with: Magalie R. Salas, Secretary, Federal Energy Regulatory Commission, 888 First Street, NE., Washington, DC 20426.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

Comments and recommendations may be filed electronically via the Internet in lieu of paper. The Commission strongly encourages electronic filings. See CFR 385.2001 (a)(1)(iii) and the instructions on the Commission's Web site (http://www.ferc.gov) under the “eFiling” link. k. This application has been accepted, and is ready for environmental analysis at this time.

l. The Bar Mills Hydroelectric Project consists of the following existing facilities: (1) A 400-foot-long by 25-foot-high dam with 6.75-foot-high flashboards, a 90- to 200-foot-wide by 725-foot-long power canal; (2) a 5.3-mile-long impoundment, which has a surface area of 263 acres at the normal full pond elevation of 148.5 feet above mean sea level; (3) a powerhouse containing two generating units with total installed generating capacity of 4.5 megawatts (MW); and (4), appurtenant facilities. The dam and existing project facilities are owned by FPL Energy Maine Hydro LLC.

m. A copy of the application is available for review at the Commission in the Public Reference Room or may be viewed on the Commission's Web site at http://www.ferc.gov using the “elibrary link”. Enter the docket number excluding the last three digits in the docket number field to access the document. For assistance, contact FERC Online Support at FERCOnlineSupport@ferc.gov or toll-free at 1-866-208-3676, or for TTY, (202) 502-8659. A copy is also available for inspection and reproduction at the address in item h. above.

All filings must: (1) Bear in all capital letters the title “COMMENTS”, “REPLY COMMENTS”, “RECOMMENDATIONS”, “TERMS AND CONDITIONS”, or “PRESCRIPTIONS”; (2) set forth in the heading the name of the applicant and the project number of the application to which the filing responds; (3) furnish the name, address, and telephone number of the person submitting the filing; and (4) otherwise comply with the requirements of 18 CFR 385.2001 through 385.2005. All comments, recommendations, terms and conditions, or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b), and 385.2010.

You may also register online at http://www.ferc.gov/esubscribenow.htm to be notified via e-mail of new filings and issuances related to this or other pending projects. For assistance, contact FERC Online Support.

n. Procedures Schedule: The Commission staff proposes to issue an Environmental Assessment (EA) rather than issuing a draft and final EA. Staff intends to allow at least 30 days for entities to comment on the EA, and will take into consideration all comments received on the EA before final action is taken on the license application. The application will be processed according to the following schedule, but revisions to the schedule may be made as appropriate:

Issue Notice of Availability of EA: May 15, 2005.

Ready for Commission Decision on the Application: June 30, 2005.

Magalie R. Salas,
Secretary.

[FR Doc. E5-503 Filed 2-7-05; 8:45 am]

BILLING CODE 6717-01-P